DEPARTMENT OF HOUSING AND URBAN DEVELOPMENT

[Docket No. FR-7061-N-07]

60-Day Notice of Proposed Information Collection: Remote Video Inspection, OMB Control No.: 2577-0298

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 28, 2022.

ADDRESSES: Interested persons are invited to submit comments regarding this proposal. Comments should refer to the proposal by name and/or OMB Control Number and should be sent to: Colette Pollard, Reports Management Officer, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the Federal Relay Service at (800) 877-8339 (this is a toll-free number).

FOR FURTHER INFORMATION CONTACT: Dawn Smith, Office of Policy, Programs and Legislative Initiatives, PIH, Department of Housing and Urban Development, 451 7th Street SW, (Room 3180), Washington, DC 20410; telephone 202-402-4109, (this is not a toll-free number). Persons with hearing or speech impairments may access this number via TTY by calling the Federal Relay Service at (800) 877-8339 (this is a toll-free number). Copies of available documents submitted to OMB may be obtained from Ms. Smith.

SUPPLEMENTARY INFORMATION: This notice informs the public that HUD is seeking approval from OMB for the information collection described in Section A.

A. Overview of Information Collection

Title of Information Collection: Remote Video Inspection.

OMB Approval Number: 2577-0298.

Type of Request: Revision of currently approved collection.

Form Number: 50139.

Description of the need for the information and proposed use: The information collection is required to continuously apply the Remote Video Inspections (RVI) criteria for the Uniform Physical Condition Standards (UPCS), the National Standards for the Physical Inspection of Real Estate (NSPIRE), Remote Video Collaborative Quality Assurance (RV CQA), and any other Real Estate Assessment Center (REAC) inspections.

Respondents: Residents, PHAs, POAs, Proxies (who will likely be PHA staff and Property Owner Agents), and Contract Inspectors.

Estimated Number of Respondents: 6,704 annually.

Estimated Number of Responses: 6,704 annually.

Frequency of Response: Frequency of response will align with the inspection schedule for the property, which will, at minimum, be inspected annually.

Burden Hours per Response: Burden hours per response depends on the information collection method. For the Pre-Inspection Checklist, the Burden Hours per Response is .33 hours. For the Pre-Remote Video Inspection Survey of Residents, the Burden Hours per Response is .08 hours. For the Survey of RV CQA Contract Inspectors, the Burden Hours per Response is .08 hours. For the Post-Remote Video Inspection Survey of Proxies, the Burden Hours per Response is .33 hours. For the Disclosure Form, the Burden Hours per Response is .17 hours. For the RV CQA Information Collection Form, the Burden Hours per Response is .17 hours.

Total Estimated Burdens: Total burden hours is estimated to be 1,524. Total burden cost is estimated to be $38,963.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Laura Miller-Pittman,
Chief, Office of Policy, Programs and Legislative Initiatives.

[FR Doc. 2022-09183 Filed 4-28-22; 8:45 am]

BILLING CODE 4210-67-P